DEPARTMENT OF COMMERCE

International Trade Administration

[A-201-805]

Circular Welded Non-Alloy Steel Pipe From Mexico: Rescission of Antidumping Duty Administrative Review

AGENCY: Import Administration, International Trade Administration, Department of Commerce.

SUMMARY: In response to requests from Niples Del Norte S.A. de C.V. (“NDN”) and Hylsa S.A. de C.V. (“Hylsa”), two Mexican manufacturers of circular welded non-alloy steel pipe, the Department of Commerce (“the Department”) initiated an administrative review of the antidumping duty order on circular welded non-alloy steel pipe from Mexico. See 69 FR 77181. This administrative review covered the period of November 1, 2003, through October 31, 2004. We are now rescinding this review as a result of both respondents' withdrawal of their request for an administrative review.

DATES: Effective Date: March 1, 2005.

FOR FURTHER INFORMATION CONTACT: John Drury or Abdelali Elouaradia, AD/CVD Operations, Office 7, Import Administration, International Trade Administration, U.S. Department of Commerce, 14th Street and Constitution Avenue, NW., Room 7866, Washington, DC 20230; telephone (202) 482-0195 or (202) 482-1374, respectively.

Background

The Department published an antidumping duty order on circular welded non-alloy steel pipe from Mexico on November 2, 1992. See Notice of Antidumping Duty Orders: Certain Circular Welded Non-Alloy Steel Pipe from Brazil, the Republic of Korea (“Korea”), Mexico, and Venezuela and Amendment to Final Determination of Sales at Less Than Fair Value: Certain Welded Non-Alloy Steel Pipe from Korea, 57 FR 49453 (November 2, 1992). The Department published a notice of “Opportunity to Request an Administrative Review” of the antidumping duty order for the period of November 1, 2003, through October 31, 2004, on November 1, 2004. See 69 FR 63359. Respondents NDN and Hylsa both requested that the Department conduct an administrative review of the antidumping duty order on circular welded non-alloy steel pipe from Mexico on November 30, 2004. In response to these requests, the Department published the initiation of the antidumping duty administrative review on circular welded non-alloy steel pipe from Mexico on December 27, 2004. See Notice of Initiation of Antidumping and Countervailing Duty Administrative Reviews and Request for Revocation in Part, 69 FR 77181 (December 27, 2004). The Department received requests for withdrawal from the administrative review from NDN on January 7, 2005, and from Hylsa on February 8, 2005. The requests for review submitted by NDN and Hylsa, respectively, were the only requests for administrative review of this order for the period November 1, 2003, through October 31, 2004.

Rescission of the Administrative Review

Pursuant to 19 CFR 351.213(d)(1), the Secretary will rescind an administrative review under this section, in whole or in part, if a party that requested a review withdraws the request within 90 days of the date of publication of notice of initiation of the requested review. Since all of the parties who initially requested an administrative review, NDN and Hylsa, have withdrawn their requests in a timely manner, we are rescinding this review. The Department will issue appropriate assessment instructions to U.S. Border and Customs Protection within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 777(i) of the Tariff Act of 1930, as amended, and 19 CFR 351.213(d)(4).

Dated: February 23, 2005.
Barbara E. Tillman,
Acting Deputy Assistant Secretary for Import Administration.

[FR Doc. E5-822 Filed 2-28-05; 8:45 am]

BILLING CODE 3510-DS-P